DEPARTMENT OF ENERGY

Federal Energy Regulatory Commission

[Docket No. CP00-76-000]

Distrigas of Massachusetts Corporation; Notice of Application

February 10, 2000.

Take notice that on February 3, 2000, Distrigas of Massachusetts Corporation (DOMAC), 75 State Street, 12th Floor, Boston, Massachusetts 02109, filed in Docket No. CP00-76-000 an application pursuant to Section 7(c) of the Natural Gas Act (NGA) and Part 157 of the Federal Energy Regulatory Commission's (Commission) Regulations, for a limited-term certificate of public convenience and necessity authorizing DOMAC to install on a temporary basis, at its liquefied natural gas (LNG) terminal in Everett, Massachusetts, certain air injection equipment needed to modify the Btu content of LNG prior to delivery into a pipeline, all as more fully set forth in the application which is on file with the Commission and open to public inspection. DOMAC further requests that the limited-term certificate be granted for a period through March 31, 2000, the end of the winter heating season. In addition, DOMAC requested that the Commission issue a temporary certificate by February 4, 2000, pursuant to Section 157.17 of the Commission's Regulations, pending final action on the limited-term authorization. This filing may be viewed on the web at http://www.ferc.fed.us/online/rims.htm (call 202-208-2222 for assistance).

DOMAC explains that, due to recent weather conditions, very high LNG demand among DOMAC's customers has created a temporary shortage of LNG supply. In order to relieve the LNG shortage, DOMAC states that it has arranged for a cargo of high-Btu-content LNG to arrive at the Everett terminal for unloading on February 6, 2000. Another cargo, of lower-Btu-content LNG, is expected to arrive on February 8, 2000. The additional air injection equipment, which consists of two natural gas-fired, truck-mounted air compressors and appurtentant facilities for air stabilization, is said to be necessary to permit more rapid stabilization of the high-Btu-content LNG in order to permit full utilization of DOMAC's existing send-out capacity to meet the current regional gas demand and permit the unexpected receipt of a cargo of high-Btu-content LNG followed within a short interval by a second cargo.

Based on the statements made in DOMAC's filing, the Commission determined that an emergency exists within the meaning of the Natural Gas Act and, on February 4, 2000, issued temporary authorization, without prejudice to the ultimate disposition of DOMAC's application for a limited-term certificate, to install air injection equipment at DOMAC's LNG terminal in Everett, Massachusetts.

Any questions concerning this application should be directed to Robert A. Nailling, Senior Counsel, Distrigas of Massachusetts Corporation, 75 State Street, 12th Floor, Boston Massachusetts 02109 at (617) 526-8300.

Any person desiring to be heard or making any protest with reference to said application should on or before February 24, 2000, file with the Federal Energy Regulatory Commission, 888 First Street, NE, Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. The Commission's rules require that protestors provide copies of their protests to the party or person to whom the protests are directed. Any person wishing to become a party to a proceeding or to participate as a party in any hearing therein must file a motion to intervene in accordance with the Commission's Rules.

A person obtaining intervenor status will be placed on the service list maintained by the Secretary of the Commission and will receive copies of all documents issued by the Commission, filed by the applicant, or filed by all other intervenors. An intervenor can file for rehearing of any Commission order and can petition for court review of any such order. However, an intervenor must serve copies of comments or any other filing it makes with the Commission to every other intervenor in the proceeding, as well as filing an original and 14 copies with the Commission.

A person does not have to intervene, however, in order to have comments considered. A person, instead, may submit two copies of such comments to the Secretary of the Commission. Commenters will be placed on the Commission's environmental mailing list, will receive copies of environmental documents, and will be able to participate in meetings associated with the Commission's environmental review process. Commenters will not be required to serve copies of filed documents on all other parties. However, commenters will not receive copies of all documents filed by other parties or issued by the Commission, and will not have the right to seek rehearing or appeal the Commission's final order to a Federal court.

The Commission will consider all comments and concerns equally, whether filed by commenters or those requesting intervenor status.

Take further notice that, pursuant to the authority contained in and subject to the jurisdiction conferred upon the Federal Energy Regulatory Commission by Sections 7 and 15 of the NGA and the Commission's Rules of Practice and Procedure, a hearing will be held without further notice before the Commission or its designee on these applications if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for DOMAC to appear or be represented at the hearing.

Linwood A. Watson, Jr.,
Acting Secretary.

[FR Doc. 00-3651 Filed 2-15-00; 8:45 am]

BILLING CODE 6717-01-M